ENVIRONMENTAL PROTECTION AGENCY

[ER-FRL-6683-2]

Environmental Impacts Statements; Notice of Availability

Responsible Agency: Office of Federal Activities, General Information (202) 564-7167 or http://www.epa.gov/compliance/nepa/.

Weekly receipt of Environmental Impact Statements

Filed 01/08/2007 through 01/12/2007

Pursuant to 40 CFR 1506.9.

EIS No. 20070007, Draft EIS, NPS, NM, Bandelier National Monument, Ecological Restoration Plan, Reestablish Healthy, Sustainable Vegetative Conditions within the Pinon-Juniper Woodland, Los Alamos and Sandoval Counties, NM, Comment Period Ends: 03/19/2007, Contact: John Mack 505-672-3861-Ext 568.

EIS No. 20070008, Draft EIS, AFS, 00, Great Basin Creek South Rangeland Management Projects, Management of 12 Livestock Grazing Allotments, Bridgeport Ranger District, Lyon and Mineral Counties, NV and Mono County, CA, Comment Period Ends: 03/05/2007, Contact: David Loomis 775-884-8132.

EIS No. 20070009, Final EIS, AFS, 00, Antelope-Pardee 500kV Transmission Project, Construct, Operate and Maintain a New 25.6 mile 500kV Transmission Line, Right-of-Way Permit and Special Use Authorization, Angeles National Forest, Los Angeles County, CA, Wait Period Ends: 02/20/2007, Contact: John Boccio 415-703-2641.

EIS No. 20070010, Final EIS, FHW, LA, East-West Corridor Highway Component, from I-130 to Louis Armstrong International Airport, to Central Business District (CBD), Jefferson, Orleans and St. Charles Parishes, LA, Wait Period Ends: 02/20/2007, Contact: Robert Mahoney 225-757-7624.

EIS No. 20070011, Draft EIS, FHW, MI, I-94 Jackson Freeway Modernization Project, Improvements between Michigan State Route-60 (MI-60) and Sargent Road, Funding and NPDES and U.S. Army COE Section 404 Permits Issuance, Jackson County, MI, Comment Period Ends: 02/20/2007, Contact: David Calabrese 517-702-1825.

Amended Notices

EIS No. 20060471, Draft EIS, FHW, IL, Prairie Parkway Study, Transportation System Improvement between Interstate 80 (I-80) and Interstate 88 (I-88) Grundy, Kendall and Kane Counties, IL, Comment Period Ends: 02/28/2007, Contact: Matt Fuller 217-492-4625. Revision of FR Notice Published 11/17/2006: Extending Comment Period from 01/16/2007 to 02/28/2007.

EIS No. 20060490, Draft EIS, OSM, 00, Black Mesa Project, Revisions to the Life-of-Mine Operation and Reclamation for the Kayenta and Black Mesa Surface-Coal Mining Operations, Right-of-Way Grant, Mohave, Navajo, Coconino and Yavapai Counties, AZ and Clark County, NV, Comment Period Ends: 02/06/2007, Contact: Peter A. Rutledge 303-844-1400 Ext. 1440. Revision to FR Notice Published 12/01/2006: Extending Comment Period 01/22/2007 to 02/06/2007.

EIS No. 20060542, Draft EIS, FRC, 00, Spokane River and Post Falls Hydroelectric Project, Applications for two New Licenses for Existing 14.75 (mw) Post Falls No. 12606 and 122.9 (mw) Spokane River No. 2545, Kootenai and Benewah Counties, ID and Spokane, Lincoln and Stevens Counties, WA, Comment Period Ends: 03/06/2007, Contact: John Blair 202-502-6092. Revision of FR Notice Published 01/05/2007: Correction to Comment Period from 02/20/2007 to 03/06/2007.

Dated: January 16, 2007.
Clifford Rader,
Environmental Protection Specialist, Office of Federal Activities.

[FR Doc. E7-695 Filed 1-18-07; 8:45 am]

BILLING CODE 6560-50-P